FEDERAL MARITIME COMMISSION

[DOCKET NO. 18-04]

Falcone Global Solutions, LLC v. Maurice Ward Networks, Ltd. d/b/a Maurice Ward Group; Maurice Ward & Co., BV.; and Maurice Ward & Co. S.R.O.; Notice of Filing of Complaint and Assignment

Notice is given that a complaint has been filed with the Federal Maritime Commission (Commission) by Falcone Global Solutions, LLC, hereinafter “Complainant,” against Maurice Ward Networks, Ltd. d/b/a Maurice Ward Group; Maurice Ward & Co., BV.; and Maurice Ward & Co. S.R.O., hereinafter “Respondents.” Complainant states that it is a licensed non-vessel operating common carrier (NVOCC) operating in Atlanta, Georgia. Complainant states that Respondents are foreign limited liability companies that “. . . [provide] global freight forwarding, warehousing, logistics, and custom clearance services for [their] customers”. Complainant asserts that Maurice Ward & Co. S.R.O. is an FMC registered foreign-based unlicensed NVOCC.

Complainant claims that the Respondents “. . . [acted] as a common carrier as defined in 46 U.S.C. 40102(6).” Complainant asserts this action arises from “. . . Respondents' unlawful withholding of 87 containers of Complainant's cargo in an attempt to extort Complainant into paying invalid invoices with inaccurate fees and charges that were disputed by Complainant.”

Complainant specifically alleges that Respondents' actions violated the Shipping Act as they:

a. “. . . failed to establish, observe and enforce just and reasonable regulations and practices related to or connected with receiving, handling, storing and delivering [Complainant's] consigned cargo, in violation of 46 U.S.C. 41102(c)”;

b. “. . . imposed and attempted to collect improper fees and charges not contained in a service agreement between the parties or published tariff, in violation of 46 U.S.C. 41104(2)”;

c. “. . . retaliated against [Complainant] by resorting to unfair and unjustly discriminatory methods by withholding release of 87 containers after Falcone disputed the inaccurate fees and charges on Respondents' invoices, in violation of 46 U.S.C. 41104(3)”;

d. “. . . engaged in unfair practices with respect to rates or charges under its tariff by invoicing [Complainant] for inaccurate and double-charged fees, in violation of 46 U.S.C. 41104(4)”; and

e. “. . . unreasonably refused to deal or negotiate in good faith with [Complainant] in resolving the disputed invoices, and instead unlawfully withheld the 87 containers, in violation of 46 U.S.C. 41104(10).”

Complainant seeks reparations in the amount of $798,300 and other relief. The full text of the complaint can be found in the Commission's Electronic Reading Room at www.fmc.gov/18-04/.

This proceeding has been assigned to the Office of Administrative Law Judges. The initial decision of the presiding officer in this proceeding shall be issued by June 27, 2019, and the final decision of the Commission shall be issued by December 10, 2019.

Rachel E. Dickon,
Secretary.

[FR Doc. 2018-14220 Filed 7-2-18; 8:45 am]

BILLING CODE 6731-AA-P